DEPARTMENT OF LABOR

Employment and Training Administration

[TA-W-82,797; TA-W-82,797A]

Simpson Lumber Company LLC, John's Prairie Operations Division, Shelton, Washington; Simpson Lumber Company LLC, Sawmill and Mill #5, Including On-Site Leased Workers of Express Employment Services, Shelton, Washington; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on June 21, 2013 applicable to workers and former workers of Simpson Lumber Company LLC, John's Prairie Operations Division, Shelton, Washington. Workers of the subject firm are engaged in activities related to the production of softwood dimensional lumber.

The intent of the Department's certification is to include all workers at the subject firm who were adversely affected by increased imports of softwood dimensional lumber.

The Department has determined that Sawmill and Mill #5 (located at 100 North Front Street and 3851 West Martine Road, respectively) operated in conjunction with the John's Prairie Operations Division, and that the workers groups are impacted by increased imports of articles like or directly competitive with the softwood dimensional lumber produced at the subject firm.

Based on these findings, the Department is amending this certification to include workers of Simpson Lumber Company LLC, Sawmill and Mill #5, Shelton, Washington.

The amended notice applicable to TA-W-82,797 is hereby issued as follows:

“All workers of Simpson Lumber Company LLC, John's Prairie Operations Division, Shelton, Washington (TA-W-82,797) and Simpson Lumber Company LLC, Sawmill and Mill #5, including on-site leased workers of Express Employment Services, Shelton, Washington (TA-W-82,797A), who became totally or partially separated from employment on or after June 7, 2012 through June 21, 2015, and all workers in the two groups threatened with total or partial separation from employment on June 21, 2013 through June 21, 2015 are eligible to apply for adjustment assistance under Section 223 of the Trade Act of 1974, and are also eligible to apply for alternative trade adjustment assistance under Section 246 of the Trade Act of 1974.”

Signed in Washington, DC, this 15th day of May, 2015
Michael W. Jaffe,
Certifying Officer, Office of Trade Adjustment Assistance.

[FR Doc. 2015-15732 Filed 6-25-15; 8:45 am]

BILLING CODE 4510-FN-P